DEPARTMENT OF ENERGY

Federal Energy Regulatory Commission

[Docket No. IC03-577-001, FERC-577]

Commission Information Collection Activities, Proposed Collection; Comment Request; Submitted for OMB Review

February 11, 2004.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of the current expiration date. Any interested person may file comments directly with OMB and should address a copy of those comments to the Commission as explained below. The Commission received no comments in response to an earlier Federal Register notice of October 6, 2003 (68 FR 57682-83), and has made this notation in its submission to OMB.

DATES: Comments on the collection of information are due by March 17, 2004.

ADDRESSES: Address comments on the collection of information to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at (202) 395-7856. A copy of the comments should also be sent to the Federal Energy Regulatory Commission, Office of the Executive Director, ED-30, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC03-577-001.

Documents filed electronically via the Internet must be prepared in WordPerfect, MS Word, Portable Document Format, or ASCII format. To file the document, access the Commission's Web site at www.ferc.gov and click on “Make an E-filing,” and then follow the instructions for each screen. First time users will have to establish a user name and password. The Commission will send an automatic acknowledgment to the sender's E-mail address upon receipt of comments. User assistance for electronic filings is available at (202) 502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-577 “Gas Pipeline Certificates: Environmental Impact Statement”.

2. Sponsor: Federal Energy Regulatory Commission.

3. Control No.: 1902-0128.

The Commission is now requesting that OMB approve and reinstate a three-year extension of the expiration date, with no changes to the existing collection. The information filed with the Commission is mandatory.

4. Necessity of the Collection of Information: Submission of the information is necessary to enable the Commission to carry out its responsibilities in implementing the statutory provisions of the National Environmental Policy Act of 1969 (NEPA) (Pub. L. 91-190). NEPA requires that all Federal agencies must include in every recommendation or report on proposals for legislation and other major Federal actions significantly affecting the quality of human environment, a detailed statement on: The environmental impact on the proposed actions; any adverse environmental effects which cannot be avoided should the proposal be implemented; alternatives to the proposed action; the relationship between local short-term uses of man's environment and the maintenance and enhancement of long-term productivity; and any irreversible and irretrievable commitments of resources which would be involved in the proposed action should it be implemented. The Commission uses the pipeline's data to evaluate the environmental aspects of construction proposals and may be used in the Commission staff's independent preparation of Environmental Assessments or Environmental Impact Statements. The Commission implements these filing requirements in the Code of Federal Regulations (CFR) under 18 CFR parts 2; 157; 284; 375; and 380.

5. Respondent Description: The respondent universe currently comprises 76 companies (on average per year) subject to the Commission's jurisdiction.

6. Estimated Burden: 233,226 total hours, 76 respondents (average per year), 16.57 responses per respondent, and 185.2 hours per response (average).

7. Estimated Cost Burden to Respondents: 233, 226 hours/2080 hours per year × $107,185 per year = $13,123,560. The cost per respondent is equal to $172,678.

Statutory Authority: Section 102 (2) (C) of the National Environmental Policy Act of 1969, 42 U.S.C. 4332.

Linda Mitry,
Acting Secretary.

[FR Doc. E4-306 Filed 2-17-04; 8:45 am]

BILLING CODE 6717-01-P